DEPARTMENT OF COMMERCE

National Oceanic and Atmospheric Administration

[RTID 0648-XE867]

Mid-Atlantic Fishery Management Council (MAFMC); Public Meeting

AGENCY: National Marine Fisheries Service (NMFS), National Oceanic and Atmospheric Administration (NOAA), Commerce.

ACTION: Notice; public meeting.

SUMMARY: The MAFMC will hold a public webinar meeting of its Mackerel, Squid, and Butterfish Monitoring Committee. See SUPPLEMENTARY INFORMATION for agenda details.

DATES: The meeting will be held on Thursday, May 15, 2025, from 9:30 a.m. to 11 a.m.

ADDRESSES: Webinar connection information will be posted to the calendar section of www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mackerel, Squid, Butterfish Monitoring Committee will meet via webinar to discuss catch and landings limits and other measures (i.e., specifications) for chub mackerel, longfin squid, and butterfish. The Monitoring Committee will review recent fishery performance information and recommendations from the Advisory Panel, Scientific and Statistical Committee, and staff. The Monitoring Committee will then provide recommendations for 2026-2028 specifications for chub mackerel. The Monitoring Committee may also recommend any appropriate revisions to the previously implemented 2026 specifications for longfin squid and butterfish.

Special Accommodations

The meeting is physically accessible to people with disabilities. Requests for sign language interpretation or other auxiliary aid should be directed to Shelley Spedden, (302) 526-5251, at least 5 days prior to the meeting date.

Authority: 16 U.S.C. 1801 et seq.

Dated: April 21, 2025.
Rey Israel Marquez,
Acting Deputy Director, Office of Sustainable Fisheries, National Marine Fisheries Service.

[FR Doc. 2025-07094 Filed 4-23-25; 8:45 am]

BILLING CODE 3510-22-P